DEPARTMENT OF ENERGY

Federal Energy Regulatory Commission

[Project No. 2114-120]

Progressive Hydro LLC, Complainant, v. Public Utility District No. 2 of Grant County, WA, Respondent; Notice of Complaint

September 10, 2004.

Take notice that on September 1, 2004, Progressive Hydro LLC, pursuant to Rule 206 of the Rules of Practice and Procedure of the Federal Energy Regulatory Commission, 18 CFR 385.206 (2004), filed a Complaint against Public Utility District No. 2 of Grant County, Washington (Grant PUD), licensee for the Priest Rapids Hydroelectric Project, FERC Project No. 2114.

Progressive Hydro alleges that Grant PUD violated the Commission's November 21, 2002, order directing Grant PUD “to remove Section 8 from the Surplus Sales Contract and Section 7, clauses (d), (f), and (g) from the Reasonable Portion Contract.” Progressive Hydro further alleges that after November 21, 2002, in power-sales negotiations with new potential purchaser or purchasers, Grant PUD insisted that the specified clauses be inserted in new power purchase contracts. Progressive Hydro also alleges that Grant PUD violated a separate requirement to remove the provisions when the Commission issued its Order Denying Rehearing on April 16, 2003. Progressive Hydro claims that as a result of these actions Grant PUD successfully prevented competition for the new license for the Priest Rapids Hydroelectric Project, for the deadline for filing competing applications for the new license was October 31, 2003.

Progressive Hydro requests that the Commission find that, as a result of Grant PUD's conduct that the Commission must: (1) Refuse to issue a new license to Grant PUD; (2) declare that the Priest Rapids Project is an “orphaned” project; and (3) solicit applications for a new license from all interested entities except Grant PUD.

Any person desiring to intervene or to protest this filing must file in accordance with Rules 211 and 214 of the Commission's Rules of Practice and Procedures (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on September 30, 2004.

Magalie R. Salas,
Secretary.

[FR Doc. E4-2208 Filed 9-15-04; 8:45 am]

BILLING CODE 6717-01-P